DEPARTMENT OF COMMERCE

National Oceanic and Atmospheric Administration

[I.D. 020400A]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Ad Hoc Charter Vessel/Headboat Advisory Panel (AP).

DATES: The AP meeting is scheduled to begin at 8:00 a.m. on February 28, 2000 and will conclude by 4:00 p.m. on February 29, 2000.

ADDRESSES: The AP meeting will be held at the Radisson Riverwalk Hotel Tampa, 200 North Ashley Drive, Tampa, FL 33602; telephone: 813-223-2222.

Council address: Gulf of Mexico Fishery Management Council, 3018 U.S. Highway 301 North, Suite 1000, Tampa, FL 33619.

FOR FURTHER INFORMATION CONTACT: Mr. Wayne Swingle, Executive Director,; telephone: 813-228-2815.

SUPPLEMENTARY INFORMATION: The Gulf of Mexico Fishery Management Council (Council) deferred taking action on a Draft Amendment for a Charter Vessel/Headboat Permit Moratorium (Amendment) at its January 18-21, 2000 meeting. Instead the Council has asked the AP to develop an industry proposal for revision of the current Federal permit system for charter vessels and headboats engaged in reef fish and coastal migratory pelagics fisheries in the Gulf of Mexico. The AP may consider retaining some of the alternatives for management measures considered in the Amendment, and likely will suggest other alternatives that would need to be presented at public hearings in a subsequent amendment. The Council will consider the AP's recommendations at its March 20-23, 2000 meeting in San Antonio, TX.

Copies of the agenda can be obtained by calling 813-228-2815.

Although other non-emergency issues not on the agendas may come before the AP for discussion, those issues may not be the subject of formal action during these meetings. Actions of the AP will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Anne Alford at the Council (see ADDRESSES) by February 22, 2000.

Dated: February 7, 2000.
Bruce C. Morehead,
Acting Director, Office of Sustainable Fisheries, National Marine Fisheries Service.

[FR Doc. 00-3286 Filed 2-10-00; 8:45 am]

BILLING CODE 3510-22-F